DEPARTMENT OF TRANSPORTATION

Federal Highway Administration

Notice of Final Federal Agency Actions on Proposed Highway Project in Rhode Island

AGENCY: Federal Highway Administration (FHWA), Department of Transportation (DOT).

ACTION: Notice of limitation on claims for judicial review of actions by FHWA.

SUMMARY: This notice announces actions taken by the FHWA that are final pursuant to the statute. The actions relate to a proposed highway project, Reconstruction of the Pell Bridge Approaches in the City of Newport in the State of Rhode Island.

DATES: By this notice, FHWA is advising the public of final agency actions subject to 23 U.S.C. 139(1)(1). A claim seeking judicial review of the Federal agency actions on the highway project will be barred unless the claim is filed on or before October 13, 2020. If the Federal law that authorizes judicial review of a claim provides a time period of less than 150 days for filing such claim, then that shorter time period still applies.

FOR FURTHER INFORMATION CONTACT: For FHWA: Mr. Carlos E. Padilla-Fresse, MSCE, Program Delivery Supervisor, Federal Highway Administration Rhode Island Division, 380 Westminster Mall, Suite 601, Providence, Rhode Island 02903: telephone: (401) 528-4577; email: Carlos.Padilla@dot.gov; or Ms. Lori Fisette, Acting Administrator of Project Management, Rhode Island Department of Transportation, Two Capitol Hill, Providence, Rhode Island 02903-1124, telephone: (401) 563-4401, email: lori.fisette@dot.ri.gov.

SUPPLEMENTARY INFORMATION: Notice is hereby given that FHWA has taken final agency actions by issuing a Finding of No Significant Impact (FONSI) for the following highway project in the State of Rhode Island: Reconstruction of the Pell Bridge Approaches in the City of Newport. The proposed action includes realignment of the Pell Bridge ramps and associated approach roads to improve traffic circulation, reduce queuing and improve safety; reconnect neighborhoods including improved vehicle, pedestrian and bicycle connectivity; and support economic development by maximizing land area available for redevelopment.

The actions by FHWA, and the laws under which such actions were taken, are described in the Environmental Assessment (EA) for the project approved on November 21, 2019, and a Finding of No Significant Impact (FONSI) issued on April 20, 2020, and in other documents in the project records. The EA, FONSI, and other project records are available by contacting FHWA or the Rhode Island Department of Transportation at the addresses provided above. The EA and FONSI can be viewed and downloaded from the project website at: www.pellbridge-ea.com.

This notice applies to all Federal agency decisions as of the issuance date of this notice and all laws under which such actions were taken, including but not limited to:

1. General: National Environmental Policy Act (NEPA) [42 U.S.C. 4321, et seq.]; Federal-Aid Highway Act [Title 23] and associated regulations [CFR part 23].

2. Hazardous Materials: Comprehensive Environmental Response, Compensation, and Liability Act [42 U.S.C. 9601-9675]; Superfund Amendments and Reauthorization Act of 1986 [Pub. L. 99-499]; Resource Conservation and Recovery Act [42 U.S.C. 6901-6992(k)]; Solid Waste Disposal Act, as amended by the Resource Conservation and Recovery Act of 1976 (42 U.S.C. 6901, et seq.).

3. Air: Clean Air Act, [42 U.S.C. 7401-7671(q)] (transportation conformity)

4. Noise: 23 U.S.C. 109(i) .

5. Wildlife: Endangered Species Act [16 U.S.C. 1531-1544]; Fish and Wildlife Coordination Act [16 U.S.C. 661-667(e)]; Migratory Bird Treaty Act [16 U.S.C. 703-712]; Plant Protection Act [7 U.S.C. 7701 et seq.].

6. Historic and Cultural Resources: Section 106 of the National Historic Preservation Act of 1966, [54 U.S.C. 306108]; Archeological Resources Protection Act of 1977 [16 U.S.C. 470(aa)-470(mm)]; Archeological and Historic Preservation Act [16 U.S.C. 469-469 c-2]; Native American Grave Protection and Repatriation Act [25 U.S.C. 3001-3013].

7. Land: Section 4(f) of The Department of Transportation Act: [49 U.S.C. 303; 23 U.S.C. 138] Farmland Protection Policy Act (FPPA) [7 U.S.C. 4201-4209].

8. Wetlands and Water Resources: Clean Water Act [33 U.S.C. 1251-1387]; Flood Disaster Protection Act [42 U.S.C. 4012a 4106].

9. Executive Orders: E.O. 11990 Protection of Wetlands; E.O. 12898, Federal Actions to Address Environmental Justice in Minority Populations and Low Income Populations; E.O. 11988 Floodplain Management; E.O. 13175 Consultation and Coordination with Indian Tribal Governments.

(Catalog of Federal Domestic Assistance Program Number 20.205, Highway Planning and Construction. The regulations implementing Executive Order 12372 regarding intergovernmental consultation on Federal programs and activities apply to this program.)

(Authority: 23 U.S.C. 139(1)(1))

Issued on: May 7, 2020.
Carlos C. Machado,
FHWA Rhode Island Division Administrator, Providence, Rhode Island.

[FR Doc. 2020-10204 Filed 5-14-20; 8:45 am]

BILLING CODE 4910-22-P